OFFICE OF THE UNITED STATES TRADE REPRESENTATIVE

Technical Corrections to the Harmonized Tariff Schedule of the United States

AGENCY: Office of the United States Trade Representative.

ACTION: Notice.

SUMMARY: The United States Trade Representative (USTR) is making technical corrections to subchapter III of chapter 99 of the Harmonized Tariff Schedule of the United States (HTS) as set forth in the annex to this notice, pursuant to authority delegated to the USTR in Presidential Proclamation 6969 of January 27, 1997 (62 FR 4415). These modifications correct several inadvertent errors and omissions in the Annex to Presidential Proclamation 7529 of March 5, 2002 (67 FR 10553) so that the intended tariff treatment is provided. In addition, USTR is modifying other portions of the HTS so as to reflect the correct treatment of motor fuel; d(-)-p-Hydroxyphenylglycine ((R)-αAmino-4-hydroxybenzeneacetic acid); inner tubes for certain tires, paper stock; cooler bags with an outer surface of textile materials; Benzenesulfonic acid, 4-[(1,3-dioxybutyl)amino]-5-methoxy-2-methyl-, ammonium salt and monosodium salt; transmission apparatus for radiotelephony, radiotelegraphy, radiobroadcasting, or television; and postage or revenue stamps, stamp-postmarks, first-day covers, postal stationery (stamped paper) and the like.

EFFECTIVE DATE: The corrections made in this notice are effective with respect to articles entered, or withdrawn from warehouse for consumption, on or after the dates set forth in each item in the annex to this notice.

FOR FURTHER INFORMATION CONTACT: Office of Industry, Office of the United States Trade Representative, 600 17th Street, NW, Room 501, Washington DC, 20508. Telephone (202) 395-5656.

SUPPLEMENTARY INFORMATION: On March 5, 2002, Proclamation 7529 established increases in duty and a tariff-rate quota (safeguard measures) pursuant to section 203 of the Trade Act of 1974 (19 U.S.C. 2253) on imports of certain steel products described in paragraph 7 of that proclamation. Effective with respect to goods entered, or withdrawn from warehouse for consumption, on or after 12:01 a.m., EST, on March 20, 2002, Proclamation 7529 modified the subchapter III of chapter 99 of the HTS so as to provide for such increased duties and a tariff-rate quota. On March 19, 2002, USTR published a Federal Register notice (67 FR 12635) making technical corrections to subchapter III of chapter 99 of the HTS to remedy several technical errors introduced in the annex to Proclamation 7529. These corrections ensured that the intended tariff treatment was provided.

Since the publication of the March 19, 2002, Federal Register notice, additional technical errors and omissions introduced through the annex to Proclamation 7529 have come to the attention of USTR. The annex to this notice makes technical corrections to the HTS to remedy these errors and omissions. In particular, the annex to this notice corrects errors in the physical dimensions or chemical composition of certain products excluded from the application of the safeguard measures.

In addition, it has come to the attention of USTR that there are technical errors and omissions in other chapters of the HTS due to prior proclamation unrelated to Proclamation 7529. The annex to this notice makes technical corrections to the HTS to remedy these errors and omissions, particularly with regard to incorrect citation to HTS subheadings, elimination of duplicative tariff treatment, deletion of obsolete article descriptions, elimination of conflicting tariff treatment, correct indication of eligibility for the Generalized System of Preferences, deletion of incorrect chemical names, and alignment with Harmonized System nomenclature. These changes would appear to have no impact on duty treatment.

Proclamation 6969 authorized the USTR to exercise the authority provided to the President under section 604 of the Trade Act of 1974 (19 U.S.C. 2483) to embody rectifications, technical or conforming changes, or similar modifications in the HTS. Under authority vested in the USTR by Proclamation 6969, the rectifications, technical and conforming changes, and similar modifications set forth in the annex to this notice shall be embodied in the HTS with respect to goods entered, or withdrawn from warehouse for consumption, on or after the date set forth in each item in the Annex to this notice.

Jon M. Huntsman, Jr.,
Deputy United States Trade Representative.

Annex

Effective with respect to goods entered, or withdrawn from warehouse for consumption, on or after the dates specified in each numbered paragraph below, the Harmonized Tariff Schedule of the United States (HTS) is hereby modified as follows:

1. Effective on and after January 10, 2002, additional U.S. note 3 to chapter 27 is modified by deleting “2710.00.15” and by inserting “2710.11.15” in lieu thereof.

2. Effective on and after January 1, 1995, chapter 29 of the HTS is modified as follows:

(A) The article description for subheading 2922.50.07 is modified by deleting the word “acid” at the end of the last line and substituting in lieu thereof “acid (d(-)-p-Hydroxyphenylglycine)';

(B) The article description for subheading 2922.50.11 is deleted and the following new description is substituted in lieu thereof: “Salts of d(-)-p-Hydroxyphenylglycine ((R)-α-Amino-4-hydroxybenzeneacetic acid)'; and

(C) The special rates of duty subcolumn for subheading 2922.50.11 is modified by striking “K,” from the parenthetical expression following the duty rate “Free”.

3. Effective on and after the dates set forth herein, chapter 40 of the HTS is modified as follows:

(A) Effective on and after January 1, 1994, the article description for subheading 4013.90.10 is modified by deleting “and 4012.20.20” and by inserting “4012.20.15 and 4012.20.45” in lieu thereof; and

(B) Effective on and after January 10, 2002, the article description for subheading 4013.90.10 is modified by deleting “4011.91.10, 4011.99.10, 4012.10.20” and by inserting “4011.61.00, 4011.92.00, 4012.19.20,” in lieu thereof.

4. Effective on and after January 10, 2002—

(A) Subheadings 4802.54.40, 4802.55.50, 4802.56.50, 4802.58.40, 4802.61.40 and 4802.62.40 and the superior text “Other:” immediately below each such subheading are all deleted; and

(B) The article descriptions for the subheadings in the left column below are realigned so they appear at the same level of indentation as the article descriptions for the subheadings in the right column below:

4802.54.50, 4802.54.60 | 4802.54.30
4802.55.60, 4802.55.70 | 4802.55.40
4802.56.60, 4802.56.70 | 4802.56.40
4802.58.50, 4802.58.60 | 4802.58.20
4802.61.50, 4802.61.60 | 4802.61.30
4802.62.50, 4802.62.60 | 4802.62.30

5. Effective on and after January 10, 2002, subheading 4202.92.05 is modified by deleting from the special rates of duty subcolumn the symbol “A,'.

6. Effective on and after January 1, 1995, the Intermediate Chemicals for Dyes Appendix of the HTS is amended as follows:

(A) For CAS No. 72705-22-7, the chemical name listed in such Appendix is deleted and the following corrected chemical name is inserted in lieu thereof: “Benzenesulfonic acid, 4-[(1,3-dioxybutyl)amino]-5-methoxy-2-methyl-, ammonium salt'; and

(B) For CAS No. 133167-77-8, the chemical name listed in such Appendix is deleted and the following corrected chemical name is inserted in lieu thereof: “Benzenesulfonic acid, 4-[(1,3-dioxybutyl)amino]-5-methoxy-2-methyl-, monosodium salt”.

7. Effective on and after January 1, 1996, the article description of heading 8525 is modified by deleting the final appearance of the word “or” and by inserting in lieu thereof “and'.

8. Effective on and after January 1, 1989, the article description of heading 9704.00.00 is modified by inserting a comma after “(stamped paper)”.

9. Effective on and after March 20, 2002, U.S. note 11 to subchapter III of chapter 99 is modified as follows:

(A) In subdivisions (b)(vii)(E) and (b)(vii)(F), “8 percent of carbon” is deleted at each instance and “0.08 percent of carbon” is inserted in lieu thereof;

(B) In subdivision (b)(viii)(A), “0.0254” is deleted and “0.245” is inserted in lieu thereof; in subdivision (b)(viii)(B), “magnesium” is deleted and “manganese” is inserted in lieu thereof; and in subdivision (b)(viii)(G), the word “minimum” is inserted before “width of 787 mm”;

(C) In subdivision (b)(viii)(H), “0.22 to 0.97 mm” is deleted and “0.20 mm to 1.22 mm” is inserted in lieu thereof, and “of 584 to 937 mm” is deleted and “range of 584 mm to 1219 mm” is inserted in lieu thereof;

(D) In subdivision (b)(xii), ”, by weight,” should be deleted and “(nominal, by weight)” is inserted in lieu thereof;

(E) In subdivision (b)(xv), “nickel of 0.40 percent,” is deleted and “nickel of 0.40 percent maximum” is inserted in lieu thereof;

(F) In subdivision (b)(xvi)(A), “1.91” is deleted and “2.01” is inserted in lieu thereof; “yield strength of 758 MPa” is deleted and “minimum yield strength of 758 MPa” is inserted in lieu thereof; and “tensile strength of 813 MPa” is deleted and “minimum tensile strength of 813 MPa” is inserted in lieu thereof;

(G) In subdivision (b)(xvi)(B), “yield strength of 793 MPa” is deleted and “minimum yield strength of 793 MPa” is inserted in lieu thereof; and “tensile strength of 931 MPa” is deleted and “minimum tensile strength of 931 MPa” should be inserted in lieu thereof;

(H) In subdivision (b)(xvii), the opening language is modified by deleting “below” and by inserting in lieu thereof “in subdivisions (A) through (C) below, or dual phase steel designated as X-011, as described in subdivision (D) below”; in subdivisions (b)(xvii)(A) through (C), “1400 mm to 1999 mm” is deleted at each instance and “1.400 mm to 1.999 mm” is inserted in lieu thereof; and in subdivision (b)(xvii)(D) the phrase ”, the foregoing also designated as X-011” is deleted;

(I) In subdivision (b)(xxii)(D), “sulfur—0.35” is deleted and “sulfur 0.035” is inserted in lieu thereof;

(J) In subdivision (b)(xxiii), “HRB of 87;” is deleted and “HRB of not over 87;” is inserted in lieu thereof; “tensile strength of 500 N/mm ² “is deleted and “tensile strength of 500 N/mm² or greater” is inserted in lieu thereof; “elongation of 30 percent” is deleted and “elongation of 30 percent or more” is inserted in lieu thereof; and “yield ratio of 80 percent;” is deleted and “yield ratio of not over 80 percent;” is inserted in lieu thereof;

(K) In subdivision (b)(xxiv), “X-139 or” is deleted;

(L) In subdivision (b)(xxvii)(A), (i) “silicon 0.03” is deleted and “silicon of not over 0.03” is inserted in lieu thereof, (ii) “phosphorus 0.02” is deleted and “phosphorus of not over 0.02” is inserted in lieu thereof, and (iii) “sulfur 0.023 (aim 0.018)” is deleted and “sulfur of not over 0.023” is inserted in lieu thereof;

(M) In subdivision (b)(xxvii)(B), the language after “by weight):” and ending with “molybdenum 0.01;” is deleted and the following new language is inserted in lieu thereof: “carbon of not over 0.08, silicon of not over 0.03, manganese of not over 0.45, phosphorus of not over 0.02, sulfur of not over 0.02, aluminum of not over 0.08, arsenic of not over 0.02, copper of not over 0.05, nitrogen of not over 0.004, chromium of not over 0.05, nickel of not over 0.05 and molybdenum of not over 0.01;”; “elongation: 25%” is deleted and “elongation of 25 percent or more” is inserted in lieu thereof; and “nonmetallic inclusions: 0.20 pcs./m²” is deleted and “nonmetallic inclusions of not over 0.20 pcs/m²” is inserted in lieu thereof;

(N) In subdivision (b)(xxxii)(B), “7209.17.00,” is inserted in numerical sequence in the parenthetical enumeration of subheadings;

(O) In subdivision (b)(xxxiv)(C), “12.63 mm” is deleted and “12.6365 mm” is inserted in lieu thereof;

(P) In subdivision (b)(xxxiv)(D), “7.01 mm—11.98 mm” is deleted and “7.00 mm—12.00 mm” is inserted in lieu thereof, and “with narrow tolerances +/-0.03985 mm—0.05990 mm” is deleted and “with tolerances +/-0.04 mm—0.06 mm” is inserted in lieu thereof;

(Q) In subdivision (b)(xxxiv)(E), “39.8” is deleted and “40.0” is inserted in lieu thereof, “3.05” is deleted and “3.0” is inserted in lieu thereof, “'121.3” is deleted and “120.0” is inserted in lieu thereof, “44.9” is deleted and “45.0 mm” is inserted in lieu thereof, “2.53” is deleted and “2.5” is inserted in lieu thereof, and “114” is deleted and “112.5” is inserted in lieu thereof;

(R) In subdivision (b)(xxxix)(E), “20 g/mm² (minimum 17 g/mm², maximum 26 g/mm²” is deleted and “20 g/m² (minimum 17 g/m², maximum 26 g/m²;” is inserted in lieu thereof;

(S) In subdivision(b)(xl)(A), the phrase “zinc-nickel alloy electroplating,” is deleted;

(T) In subdivision(b)(xli), “22.4 g/m² box equivalent” is deleted and “11.2 g/m²” is inserted in lieu thereof; “5.38 mg/m²” is deleted and “5.4 mg/m²” is inserted in lieu thereof; “CAT 5” is deleted and “CA T-5” is inserted in lieu thereof; “22.4/2.24 g/m² coating” is deleted and “11.2/1.1 g/m² coating” is inserted in lieu thereof; “2.24 g/m² coating side” is deleted and “1.1 g/m² coating side” is inserted in lieu thereof; “0.208 mm thickness and 887.4 mm by 806.4 mm scroll cut dimensions” is deleted and “0.21 mm thickness and 887 mm by 806.4 mm scroll cut dimensions” is inserted in lieu thereof; “0.208 mm thickness and 868.4 mm by 738.5 mm scroll cut dimensions” is deleted and “0.208 mm thickness and 868 mm by 738.5 mm scroll cut dimensions” is inserted in lieu thereof; and “0.300 mm thickness and 776.3 mm by 866.8 mm scroll cut dimensions” is deleted and “0.30 mm thickness and 776 mm by 866.8 mm scroll cut dimensions” is inserted in lieu thereof;

(U) In subdivision (b)(xlviii), “457.2 mm or more” is deleted and “457.0” is inserted in lieu thereof;

(V) In subdivision (b)(lii)(A), “0.279 mm to 0.300 mm” is deleted and “0.274 mm to 0.295 mm” is inserted in lieu thereof; and

(W) In subdivision (d)(ii)(D), “India and Romania” is deleted and “India, Romania and Thailand” is inserted in lieu thereof.

10. Effective on and after March 20, 2002, the following modifications are made in subchapter III of chapter 99:

(A) Subheading 9903.72.74 is modified by deleting “X-139 or”;

(B) The superior text to subheadings 9903.72.85 through 9903.73.04 is modified by deleting “if not in coils of a thickness of less than 4.75 mm (provided” and by inserting in lieu thereof ”, and if not in coils then of a thickness of less than 4.75 mm (all the foregoing provided';

(C) Subheading 9903.73.76 is deleted; and

(D) The following new subheadings are each inserted in numerical sequence, with the material inserted in the columns headed “Heading/Subheading”, “Article Description”, “Rates of Duty 1-General”, “Rates of Duty 1-Special” and “Rates of Duty 2”, respectively:

| [Bars, ....;]
| [Goods ....;]
“9903.73.45 | Enumerated in U.S. note 11(b)(xi) to this subchapter and designated as X-083 | No change | No change | No change
9903.73.46 | Enumerated in U.S. note 11(b)(xxii) to this subchapter and designated as X-134 | No change | No change | No change
| [Bars ....;]
9903.74.09 | Goods excluded from the application of relief by U.S. note 11(b)((xlvii) to this subchapter, designated as X-177 | No change | No change | No change

[FR Doc. 02-13991 Filed 6-3-02; 8:45 am]

BILLING CODE 3190-01-P